DEPARTMENT OF HOMELAND SECURITY

Transportation Security Administration

[Docket No. TSA-2005-20118]

Intent To Request Revision From OMB of One Current Public Collection of Information: Maryland Three Airports: Enhanced Security Procedures for Operations at Certain Airports in the Washington, DC, Metropolitan Area Flight Restricted Zone

AGENCY: Transportation Security Administration, DHS.

ACTION: 60-Day notice.

SUMMARY: The Transportation Security Administration (TSA) invites public comment on one currently approved Information Collection Request (ICR), Office of Management and Budget (OMB) control number 1652-0029, abstracted below that we will submit to OMB for a revision in compliance with the Paperwork Reduction Act (PRA). The ICR describes the nature of the information collection and its expected burden. The collection is necessary to comply with a requirement for individuals to successfully complete a security threat assessment before: (1) Operating an aircraft to or from the three Maryland airports (Maryland Three Airports) that are located within the Washington, DC, Metropolitan Area Flight Restricted Zone (FRZ), or (2) serving as an airport security coordinator at one of these three airports.

DATES: Send your comments by May 8, 2018.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

OMB Control Number 1652-0029; Maryland Three Airports: Enhanced Security Procedures for Operations at Certain Airports in the Washington, DC Metropolitan Area Flight Restricted Zone, 49 CFR part 1562. TSA's regulations impose requirements and security procedures on airport operators of three Maryland airports located within the Washington, DC, Metropolitan Area FRZ (Maryland Three Airports),¹ and on individuals operating aircraft to or from these airports. The information collected is used to determine compliance with 49 CFR part 1562, subpart A.

¹ The Maryland Three Airports are: College Park Airport (CGS), Potomac Airfield (VKX), and Washington Executive/Hyde Field (W32).

Part 1562, subpart A, allows an individual who is approved by TSA to operate an aircraft to or from one of the Maryland Three Airports or to serve as an airport security coordinator at one of these airports. In order to be approved, a pilot or airport security coordinator applicant is required to successfully complete a security threat assessment. As part of this threat assessment, the applicant must undergo a criminal history records check and a check of Government terrorist watch lists and other databases to determine whether the individual poses, or is suspected of posing, a threat to transportation or national security. An applicant will not receive TSA's approval under this analysis if TSA determines or suspects them of being a threat to national or transportation security.

Applicants can be fingerprinted at the Ronald Reagan Washington National Airport's (DCA) badging office and any participating airport badging office or law enforcement office located nearby to the applicant's residence or place of work. Applicants must present the following information to TSA, using TSA Form 418, as part of the application process: Full name; Social Security number; date of birth; address; phone numbers; current and valid airman certificate or current and valid student pilot certificate; current medical certificate; a list of the make, model, and Federal Aviation Administration (FAA) aircraft registration number for each aircraft the pilot intends to operate at Maryland Three Airports; one form of Government-issued picture ID; the certificate of completion of the FAA DC Special Flight Rules Area training; and fingerprints. Although not required by the rule, TSA asks applicants to voluntarily provide an email address and emergency contact phone number to facilitate immediate communication that might be necessary when operating in the FRZ or helpful during the application process.

TSA is revising the collection by providing an option to submit the documents for the application by email. Applicants will no longer need to go in person to the FAA Flight Standards District Offices to submit the required documentation, but may submit the information to TSA electronically at mdthree@tsa.dhs.gov. Fingerprints, however, will continue to be collected in person at the various locations.

TSA receives approximately 369 applications annually and estimates applicants spend approximately 7.75 hours to prepare and submit the information to TSA, which is a total annual burden of 2,859.75 hours.

Dated: March 1, 2018.
Christina A. Walsh,
TSA Paperwork Reduction Act Officer, Office of Information Technology.

[FR Doc. 2018-04710 Filed 3-8-18; 8:45 am]

BILLING CODE 9110-05-P